DEPARTMENT OF THE INTERIOR

Bureau of Land Management

[223 LLUTP00000 L17110000.AQ0000 BOC:253Y00]

Notice of Public Meeting, Grand Staircase-Escalante National Monument Advisory Committee, Utah

AGENCY: Bureau of Land Management, Interior.

ACTION: Notice of public meeting.

SUMMARY: In accordance with the Federal Land Policy and Management Act, as amended, the Federal Advisory Committee Act, and the Federal Lands Recreation Enhancement Act, the U.S. Department of the Interior, Bureau of Land Management's (BLM) Grand Staircase-Escalante National Monument Advisory Committee will meet as indicated below.

DATES: The Grand Staircase-Escalante National Monument Advisory Committee will hold virtual meetings on July 12, 2022; October 18, 2022; and December 13, 2022. All meetings will occur from 9 a.m. to 4:30 p.m. Public comments will be received on July 12, 2022 at 3:30 p.m., October 18, 2022 at 2:45 p.m., and on December 13, 2022 at 1:45 p.m. The meetings are open to the public.

ADDRESSES: The agenda and meeting access information (including how to log in and participate in virtual meetings) will be announced on the Grand Staircase-Escalante National Monument Advisory Committee web page 15 days before the meeting at https://go.usa.gov/xuq2U.

FOR FURTHER INFORMATION CONTACT: David Hercher, Paria River District Public Affairs Specialist, 669 S Highway 89A, Kanab, UT 84741, via email with the subject line “GSENM MAC” to escalante_interagency@blm.gov, or by calling the Grand Staircase-Escalante National Monument Office at (435) 644-1200.

SUPPLEMENTARY INFORMATION: Presidential Proclamation 6920, as modified by Presidential Proclamations 9682 and 10286, established the Grand Staircase-Escalante National Monument Advisory Committee to provide advice and information to the Secretary of the Interior through the Director of the BLM to consider for managing the Grand Staircase-Escalante National Monument. The 15-member committee represents a wide range of interests including local and state government, paleontological and archaeological expertise, the conservation community, livestock grazing permittees, Tribal members, developed and dispersed recreation interests, private landowners, local business owners, and the public at large.

Planned agenda items for the July meeting include: administrative business; introduction of the Oct. 8, 2021, Proclamation 10286, as the foundational legal instrument for the management of the Monument; presentation of the interim guidance issued by the BLM Dec. 16, 2021, as providing interim management direction for land managers, while a new Monument management plan is being developed; and the role of the guidance in ongoing management. Additional agenda items include introduction of the National Landscape Conservation System 15-Year Strategy (2010-2025) and how this strategy will apply to Monument management, review of the status of BLM efforts toward preparing and adopting a science plan for the Monument, and a brief update on other ongoing National Environmental Policy Act (NEPA) planning within the Monument. Planned agenda items for the October meeting include identification and discussion of potential issues to consider in resource management planning, presentation and discussion of the current resource management planning status and future milestones, and updates on other ongoing NEPA planning priorities within the Monument. Planned agenda items for the December meeting include presentation and discussion of the current resource management planning status and future milestones, discussion of the alternatives development process and the draft environmental impact statement, and updates on other ongoing NEPA planning priorities within the Monument.

A public comment period will be offered during these meetings. Depending on the number of people wishing to comment and the time available, the time for individual comments may be limited. Written comments may also be sent to the Grand Staircase-Escalante National Monument at the address listed in the FOR FURTHER INFORMATION CONTACT section of this notice. All comments received prior to the meeting will be provided to the Grand Staircase-Escalante National Monument Advisory Committee.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Before including your address, phone number, email address, or other personal identifying information in your comment, you should be aware that your entire comment—including your personal identifying information—may be made publicly available at any time. While you can ask us in your comment to withhold your personal identifying information from public review, we cannot guarantee that we will be able to do so.

Detailed meeting minutes for the Grand Staircase-Escalante National Monument Advisory Committee meeting will be maintained in the Paria River District Office and will be available for public inspection and reproduction during regular business hours within 90 days following the meeting. Minutes will also be posted to the Grand Staircase-Escalante National Monument Advisory Committee web page.

Authority: 43 CFR 1784.4-2.

Harry Barber,
District Manager.

[FR Doc. 2022-13453 Filed 6-22-22; 8:45 am]

BILLING CODE 4310-DQ-P